DEPARTMENT OF ENERGY

Environmental Management Site-Specific Advisory Board Chairs Meeting

AGENCY: Department of Energy.

ACTION: Notice of open meeting.

SUMMARY: This notice announces a meeting of the Environmental Management Site-Specific Advisory Board (EM SSAB) Chairs Meeting. The Federal Advisory Committee Act (Pub. L. 92-463, 86 Stat. 770) requires that public notice of this meeting be announced in the Federal Register.

DATES: March 28-29, 2003.

ADDRESSES: Adams Mark Hotel, 1550 Court Place, Denver, CO 80202.

FOR FURTHER INFORMATION CONTACT: Ken Korkia, Board/Staff Coordinator, Rocky Flats Citizens Advisory Board, 9035 North Wadsworth Parkway, Suite 2250, Westminster, CO 80031; telephone (303) 420-7855; fax (303) 420-7579.

SUPPLEMENTARY INFORMATION: Purpose of the Board: The purpose of the Board is to make recommendations to DOE and its regulators in the areas of environmental restoration, waste management, and related activities.

Tentative Agenda

Friday, March 28, 2003

8 a.m. Registration

8:30 a.m. Opening business, Welcoming remarks; Victor Holm, RFCAB Chair; Eugene Schmitt, DOE RF Manager; others, Introductions, Meeting ground rules and agenda review, Meeting objectives and expectations

9 a.m. Roundtable presentations from each site focusing on intersite shipment of wastes and materials (5 min. per site)

9:45 a.m. Chairs discussion of intersite shipment issues

10:30 a.m. Break

10:45 a.m. Presentation and discussion on DOE-EM 2003-2004 budget with Deputy Assistant Secretary for Policy, Planning and Budget, Roger Butler

11:45 a.m. Lunch

1 p.m. Presentation and discussion on long-term stewardship with Dave Geiser, DOE Office of Long-Term Stewardship and Mike Owen, Director of Worker and Community Transition and the Secretary of Energy's Designee to Lead the Legacy Management Transition Team

3 p.m. Break

3:15 p.m. Discussion and approval of TRU Waste Workshop Recommendations

4:15 p.m. Public comment period

4:30 p.m. Day 1 wrap-up and review of Day 2

4:45 p.m. Adjourn

Saturday, March 29, 2003

8:30 a.m. Review agenda

8:35 a.m. Planning for future EMSSAB events, Next Chairs meeting(s): Discussion question on how often chairs should meet; location and date for next meeting, Next workshop

9:30 a.m. Discussion with new EMSSAB Designated Federal Officer Sandra Waisley and Deputy Assistant Secretary Roger Butler

10:15 a.m. Break

10:30 a.m. Roundtable discussion with each board sharing success stories or outlining concerns

11:30 a.m. Public comment period

11:45 a.m. Meeting wrap-up, Review of expectations/objectives, Meeting evaluation

12 noon Adjourn

Public Participation: The meeting is open to the public. Written statements may be filed with the Committee either before or after the meeting. Individuals who wish to make oral statements pertaining to agenda items should contact Ken Korkia at the address or telephone number listed above. Requests must be received five days prior to the meeting and reasonable provision will be made to include the presentation in the agenda. The Deputy Designated Federal Officer is empowered to conduct the meeting in a fashion that will facilitate the orderly conduct of business. Each individual wishing to make public comment will be provided a maximum of five minutes to present their comments at the end of the meeting.

Minutes: Minutes of this meeting will be available for public review and copying at the Freedom of Information Public Reading Room, 1E-190, Forrestal Building, 1000 Independence Avenue, SW., Washington, DC 20585 between 9 a.m. and 4 p.m., Monday-Friday except Federal holidays. Minutes will also be available by writing or calling Ken Korkia at the address or telephone number listed above.

Issued in Washington, DC on February 28, 2003.
Rachel M. Samuel,
Deputy Advisory Committee Management Officer.

[FR Doc. 03-5260 Filed 3-5-03; 8:45 am]

BILLING CODE 6450-01-P